DEPARTMENT OF ENERGY

Federal Energy Regulatory Commission

[Docket No. EL03-53-0001]

Gregory Swecker, Complainant, v. Midland Power Cooperative, Respondent; Notice of Complaint

March 5, 2003.

Take notice that on February 11, 2003, Gregory Swecker filed with the Federal Energy Regulatory Commission (Commission), under section 210 of the Public Utility Regulatory Policies Act of 1978, a complaint against Midland Power Cooperative, asking the Commission for an order to compel Midland Power Cooperative to Provide Supplemental and Backup Power to their Qualified Facility and Provide Their Avoided Costs.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: March 25, 2003.

Magalie R. Salas,
Secretary.

[FR Doc. 03-5798 Filed 3-11-03; 8:45 am]

BILLING CODE 6717-01-P